ENVIRONMENTAL PROTECTION AGENCY

[EPA-HQ-OPP-2007-0177; FRL-8134-8]

Experimental Use Permit; Receipt of Application; Correction

AGENCY: Environmental Protection Agency (EPA).

ACTION: Notice; correction.

SUMMARY: EPA issued a notice in the Federal Register of April 11, 2007, concerning the receipt of an application for an experimental use permit (EUP) using mammalian gonadotropin releasing hormone to investigate the efficacy of reproductive control in fallow deer. This document is being issued to correct an error made by the applicant in the original submission.

FOR FURTHER INFORMATION CONTACT: Joanne Edwards, Registration Division (7505P), Office of Pesticide Programs, Environmental Protection Agency, 1200 Pennsylvania Ave., NW., Washington, DC 20460-0001; telephone number: (703) 305-6736; e-mail address: edwards.joanne@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. How Can I Get Copies of this Document and Other Related Information?

1. Docket. EPA has established a docket for this action under docket identification (ID) number EPA-HQ-OPP-2007-0177. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. What Does this Correction Do?

FR Doc. E7-6850 published in the Federal Register of April 11, 2007 (72 FR 18242) (FRL-8121-7) is corrected as follows:

On page 18243, under Unit II. Background, the third sentence should read as follows: Total quantity of active ingredient to be used is 21 milligrams (70 milliliters of the formulated product).

List of Subjects

Environmental protection, Experimental use permits.

Dated: June 12, 2007.
Donald R. Stubbs,
Acting Director, Registration Division, Office of Pesticide Programs.

[FR Doc. E7-12284 Filed 6-26-07; 8:45 am]

BILLING CODE 6560-50-S